DEPARTMENT OF TRANSPORTATION

Office of the Secretary

[Docket OST-2002-11590]

In the Matter of the Small Community Air Service Development Pilot Program, Under 49 U.S.C. 41743 et seq.; Order Setting Final Deadline for Applications

Issued by the Department of Transportation on the 1st day of July, 2002.

SUMMARY: By this order, the Department sets a final deadline of July 19, 2002, for the filing of all applications and supplements thereto under the Small Community Air Service Development Program.

Background

On April 5, 2000, the President signed the Wendell H. Ford Aviation Investment and Reform Act for the 21st Century (AIR-21), Pub. L. 106-181. Among other things, the statute established a new pilot program designed to help smaller communities enhance their air service. To fund the program, the statute authorized a funding level of $20.0 million for fiscal year 2001 and $27.5 million for each of fiscal years 2002 and 2003; no funds were appropriated in fiscal year 2001 and only $20 million in fiscal year 2002. We established April 22, 2002 as the deadline for the filing of applications seeking priority consideration. On June 26, 2002 (Order 2002-6-14), we announced the award of 40 grants totaling almost $20 million, subject to each applicant's executing a formal grant agreement with the Department. We also noted that it is possible that not all of the funds awarded in that Order may be expended, since we intend to include in each grant agreement success milestones that each grantee must meet to ensure continuation of funding. All applications received by April 22, 2002, and any received thereafter will be considered equally for any such unexpended funds.

To provide administrative finality to the filing of applications, we will not accept any application, nor any supplement thereto, received after July 19, 2002. The only exception will be if Departmental staff requests additional information from an applicant to facilitate consideration of its application.

Accordingly, the deadline for submitting applications in this Docket, or supplements to applications, is July 19, 2002.

This order will be published in the Federal Register.

Read C. Van de Water,
Assistant Secretary for Aviation and International Affairs.

An electronic version of this document is available on the World Wide Web at http://dms.dot.gov.

[FR Doc. 02-17001 Filed 7-5-02; 8:45 am]

BILLING CODE 4910-62-P